DEPARTMENT OF COMMERCE

Submission for Office of Management and Budget (OMB) Review; Comment Request

The Department of Commerce (DOC) has submitted to OMB for clearance the following proposal for collection of information under the provisions of the Paperwork Reduction Act (44 U.S.C. chapter 35).

Agency: Bureau of Economic Analysis (BEA), DOC.

Title: Expenditures Incurred by Recipients of Biomedical Research Awards from the National Institutes of Health (NIH).

Type of Request: New information collection.

Burden: 1,176 hours.

Number of Respondents: 105.

Average Hours Per Response: 11.2 hours.

Needs and Uses: The survey to obtain the distribution of expenditures incurred by recipients of biomedical research awards from the National Institutes of Health Research (NIH) will provide information on how the NIH award amounts are expended across several major categories. This information, along with wage and price data from other published sources, will be used to generate the Biomedical Research and Developmental Price Index (BRDPI). The Bureau of Economic Analysis (BEA) of the Department of Commerce develops this index for the National Institutes of Health (NIH) under reimbursable contract. The BRDPI is an index of prices paid for the labor, supplies, equipment, and other inputs required to perform the biomedical research the NIH supports in its intramural laboratories and through its awards to extramural organizations. The BRDPI is a vital tool for planning the NIH research budget and analyzing future NIH programs. A survey of award recipient entities is currently the only means for updating the expenditure categories that are used to prepare the BRDPI.

The information provided by the respondents will be held confidential and be used for exclusively statistical purposes. This pledge of confidentiality is made under the Confidential Information Protection provisions of Title V, Subtitle A, Public Law 107-347. Title V is the Confidential Information Protection and Statistical Efficiency Act of 2002 (CIPSEA). Responses will be kept confidential and will not be disclosed in identifiable form to anyone other than employees or agents of BEA without your consent. By law, each employee as well as each agent is subject to a jail term of up to 5 years, a fine of up to $250,000, or both if he or she makes public ANY identifiable information that you report about your business or institution.

A survey questionnaire with a cover letter that includes a brief description of, and rationale for, the survey will be sent to potential respondents by the first week of June of each year. A report of the respondent's expenditures of the NIH award amounts, following the proposed format for expenditure categories attached to the survey's cover letter, will be requested to be returned no later than 60 days after mailing. Survey respondents will be selected on the basis of award levels, which determine the weight of the respondent in the biomedical research and development price index. Potential respondents will include (1) the top 100 organizations in total awards, which account for about 74 percent of total awards; (2) the top 40 organizations that are not primarily in the “Research and Development (R & D) contracts” category, and which account for about 4 percent of total awards; and, (3) the top 10 organizations that are primarily in the “R&D contracts” category, and which account for less than one percent of total awards.

Affected Public: Businesses or other for-profit institutions, and not-for-profit institutions.

Frequency: Annual.

Respondent's Obligations: Voluntary.

Legal Authority: 45 CFR Subpart C, Post-Award Requirements, §§ 74.21 and 74.53; 42 U.S.C. 282; Economy Act (31 U.S.C. 1535 and 1536); 15 U.S.C. 1525; and 15 U.S.C. 1527a.

OMB Desk Officer: Paul Bugg, (202) 395-3093.

You may obtain copies of the above information collection proposal by calling or writing Diana Hynek, Departmental Paperwork Clearance Officer, Office of the Chief Information Officer, Department of Commerce, Room 6625, 14th Street and Constitution Avenue, NW., Washington DC 20230, or via the Internet at dHynek@doc.gov, ((202) 482-0266).

Send comments on the proposed information collection within 30 days of publication of this notice to Paul Bugg, OMB Desk Officer, via the Internet at pbugg@omb.eop.gov or by fax (202) 395-7245.

Dated: January 10, 2005.
Madeleine Clayton,
Management Analyst, Office of the Chief Information Officer.

[FR Doc. 05-788 Filed 1-13-05; 8:45 am]

BILLING CODE 3510-06-P